DEPARTMENT OF EDUCATION

34 CFR Subtitles A and B

[Docket ID: ED-2017-OS-0074]

Evaluation of Existing Regulations

AGENCY: Office of the Secretary, Department of Education.

ACTION: Request for comments.

SUMMARY: In accordance with Executive Order 13777, “Enforcing the Regulatory Reform Agenda,” the Department of Education (Department) is seeking input on regulations that may be appropriate for repeal, replacement, or modification.

DATES: We must receive your comments no later than August 21, 2017.

ADDRESSES: Submit your comments through the Federal eRulemaking Portal or via postal mail, commercial delivery, or hand delivery. We will not accept comments by fax or email. To ensure that we do not receive duplicate copies, please submit your comments only once. In addition, please include the Docket ID at the top of your comments.

Federal eRulemaking Portal: Go to www.regulations.gov to submit your comments electronically. Information on using Regulations.gov, including instructions for accessing agency documents, submitting comments, and viewing the docket is available on the site under the “Help” tab.

Postal Mail, Commercial Delivery, or Hand Delivery: The Department strongly encourages commenters to submit their comments electronically. However, if you mail or deliver your comments in response to this request, address them to Hilary Malawer, 400 Maryland Avenue SW., Room 6E231, Washington, DC 20202.

Privacy Note: The Department's policy is to make all comments received from members of the public available for public viewing in their entirety on the Federal eRulemaking Portal at www.regulations.gov. Therefore, commenters should be careful to include in their comments only information that they wish to make publicly available.

FOR FURTHER INFORMATION CONTACT: For further information on this document, please contact Hilary Malawer, Assistant General Counsel, Office of the General Counsel, U.S. Department of Education, 400 Maryland Avenue SW., Room 6E231, Washington, DC 20202. Telephone: (202) 401-6148 or by email: Hilary.Malawer@ed.gov.

If you use a telecommunications device for the deaf (TDD) or a text telephone (TTY), call the Federal Relay Service (FRS), toll free, at 1-800-877-8339.

SUPPLEMENTARY INFORMATION: On February 24, 2017, President Trump signed Executive Order 13777, “Enforcing the Regulatory Reform Agenda,” which established a Federal policy “to alleviate unnecessary regulatory burdens” on the American people. Section 3(a) of the Executive Order directs Federal agencies to establish a Regulatory Reform Task Force (Task Force). One of the duties of the Task Force is to evaluate existing regulations and “make recommendations to the agency head regarding their repeal, replacement, or modification.” The Executive Order further asks that each Task Force “attempt to identify regulations that:

(i) Eliminate jobs, or inhibit job creation;

(ii) Are outdated, unnecessary, or ineffective;

(iii) Impose costs that exceed benefits;

(iv) Create a serious inconsistency or otherwise interfere with regulatory reform initiatives and policies;

(v) Are inconsistent with the requirements of section 515 of the Treasury and General Government Appropriations Act, 2001 (44 U.S.C. 3516 note), or the guidance issued pursuant to that provision, in particular those regulations that rely in whole or in part on data, information, or methods that are not publicly available or that are insufficiently transparent to meet the standard for reproducibility; or

(vi) Derive from or implement Executive Orders or other Presidential directives that have been subsequently rescinded or substantially modified.”

Section 3(e) of the Executive order calls on the Task Force to “seek input and other assistance, as permitted by law, from entities significantly affected by Federal regulations, including State, local, and tribal governments, small businesses, consumers, non-governmental organizations, and trade associations” on regulations that meet some or all of the criteria above. A “regulation” for this purpose “means an agency statement of general or particular applicability and future effect designed to implement, interpret, or prescribe law or policy or to describe the procedure or practice requirements of an agency . . . .” See Executive Order 13771, section 4.

Through this announcement, the Department is soliciting such input from the public to inform its Task Force's evaluation of existing regulations and guidance that have a policy impact. The Department's regulations are codified in subtitles A and B of title 34 of the Code of Federal Regulations (CFR), which are available in electronic format at www.ecfr.gov/cgi-bin/text-idx?SID=0717200349ac02b730b4600ba4a5ed05&mc=true&tpl=/ecfrbrowse/Title34/34tab_02.tpl. A list of the Department's significant guidance documents is available at: www2.ed.gov/policy/gen/guid/significant-guidance.html. Other Department guidance may be accessed at www.ed.gov by program office. The Department requests that commenters be as specific as possible by: Providing a Federal Register (FR) or CFR citation when referencing a specific regulation or, where practicable, a link when referencing a particular guidance document; including any supporting data or other applicable information; providing specific suggestions regarding repeal, replacement, or modification; and explaining with specificity why the referenced regulation or guidance should be repealed, replaced, or modified. Wherever possible, please list the citations to the specific regulatory sections or titles of guidance documents to which your comments pertain in a subject line or otherwise at the beginning of your comments. We are particularly interested in regulatory provisions that you find unduly costly or unnecessarily burdensome. Although we will not respond to individual comments, the Department values public feedback and will give careful consideration to all input that we receive. Individual program offices of the Department will also be conducting outreach on this same topic.

Accessible Format: Individuals with disabilities can obtain this document in an accessible format (e.g., braille, large print, audiotape, or compact disc) on request to the person listed under FOR FURTHER INFORMATION CONTACT.

Electronic Access to This Document: The official version of this document is the document published in the Federal Register. Free internet access to the official edition of the Federal Register and the Code of Federal Regulations is available via the Federal Digital System at: www.gpo.gov/fdsys. At this site, you can view this document, as well as all other documents of this Department published in the Federal Register, in text or Portable Document Format (PDF). To use PDF, you must have Adobe Acrobat Reader, which is available free at the site.

You may also access documents of the Department published in the Federal Register by using the article search feature at: www.federalregister.gov. Specifically, through the advanced search feature at this site, you can limit your search to documents published by the Department.

Dated: June 19, 2017.
Betsy DeVos,
Secretary of Education.

[FR Doc. 2017-13157 Filed 6-21-17; 8:45 am]

BILLING CODE 4000-01-P